DEPARTMENT OF AGRICULTURE

Forest Service

Eastern Washington Cascades Provincial Advisory Committee and Yakima Provincial Advisory Committee

AGENCY: Forest Service, USDA.

ACTION: Notice of meeting.

SUMMARY: The original meeting of the Eastern Washington Cascades Provincial Advisory Committee and the Yakima Provincial Advisory Committee that had been scheduled for March 7 has been postponed and will now meet on Friday, April 5, 2002, at the Wenatchee National Forest headquarters main conference room, 215 Melody Lane, Wenatchee, Washington. The meeting will begin at 9 a.m. and continue until 4 p.m. During this meeting we will discuss the Forest Supervisor's response to committee advice on noxious weed management, and also participate in a discussion of proposed public involvement for an upcoming forest roads inventory. All Eastern Washington Cascades and Yakima Province Advisory Committee meetings are open to the public. Interested citizens are welcome to attend.

FOR FURTHER INFORMATION CONTACT: Direct questions regarding this meeting to Paul Hart, Designated Federal Official, USDA, Wenatchee National Forest, 215 Melody Lane, Wenatchee, Washington 98801, 509-662-4335.

Dated: February 26, 2002.
Paul Hart,
Designated Federal Official, Okanogan and Wenatchee National Forests.

[FR Doc. 02-5083 Filed 3-1-02; 8:45 am]

BILLING CODE 3410-11-M